DEPARTMENT OF HOMELAND SECURITY

Federal Emergency Management Agency

44 CFR Chapter I

Technical, Organizational and Conforming Amendments

CFR Correction

In Title 44 of the Code of Federal Regulations, revised as of October 1, 2017, make the following corrections:

1. On page 45, in § 7.14, in paragraph (e), remove the word “Director” and add the word “Administrator” in its place.

2. On page 135, in § 59.24, in paragraph (a), and on page 137, in paragraph (f), remove the term “the Administrator” and add the term “Federal Insurance Administrator” in its place.

3. On page 285, in § 151.11, in the introductory text, remove the word “Director” and add the word “Administrator” in its place.

4. On page 286, in § 151.12, in the last sentence of paragraph (b)(2), remove the word “Director” and add the word “Administrator” in its place.

5. On page 319, in § 206.2, in paragraph (a)(11), remove the word “Director” and add the word “Administrator” in its place.

6. On page 371, in § 206.164, in paragraph (b), remove the word “Director” and add the word “Administrator” in its place.

7. On page 505, in § 332.2, in paragraph (e)(2), remove the word “Director” and add the word “Administrator” in its place.

8. On page 516, in § 350.9, in the last sentence of paragraph (c)(3), remove the term “Associate Director” and add the term “Deputy Administrator for the National Preparedness Directorate” in its place.

9. On page 518, in § 350.12 in the introductory text of paragraph (b), remove the term “Regional Director's” and add the term “Regional Administrator's” in its place.

[FR Doc. 2018-21367 Filed 9-28-18; 8:45 am]

BILLING CODE 1301-00-D